DEPARTMENT OF JUSTICE

[OMB 1140-0005]

Agency Information Collection Activities; Proposed eCollection eComments Requested; Revision of a Previously Approved Collection Application/Permit To Import Firearms, Ammunition, and Defense Articles—ATF Form 5330.3A (Form 6, Part I)

AGENCY: Bureau of Alcohol, Tobacco, Firearms, and Explosives; Department of Justice.

ACTION: 60-Day notice.

SUMMARY: The Department of Justice (DOJ), Bureau of Alcohol, Tobacco, Firearms, and Explosives (ATF), will be submitting the following information collection request (ICR) to the Office of Management and Budget (OMB) for review and approval in accordance with the Paperwork Reduction Act of 1995.

DATES: ATF encourages comments on this information collection. You may submit written comments until midnight on January 30, 2026.

ADDRESSES: Submit written comments and recommendations for this information collection, especially on the estimated public burden or associated response time, to Justine Hall, Firearms and Explosives Imports Branch, by email to justine.hall@atf.gov, or by mail to 244 Needy Road; Martinsburg, WV 25405. Identify comments by the OMB control number 1140-0005. You may view the proposed information collection instrument online at https://www.atf.gov/rules-and-regulations/federal-register-actions/forms-and-information-collection.

FOR FURTHER INFORMATION CONTACT: If you have questions, or need a copy of the proposed information collection instrument with instructions or additional information, contact: Justine Hall, Firearms and Explosives Imports Branch, either by mail at 244 Needy Road; Martinsburg, WV 25405, by email at justine.hall@atf.gov, or by telephone at 304-616-4593.

SUPPLEMENTARY INFORMATION: We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Overview of This Information Collection

1. Abstract: The Gun Control Act and other statutes prohibit persons from importing firearms, ammunition, and defense articles into the US unless the articles meet certain criteria, the importer is not a prohibited person, and the Attorney General (delegated to Director, ATF) approves that person to import those items. ATF uses this form to collect the information necessary to determine the above facts and approve a person to import the articles; the form then serves as their permit to do so.

2. Type of information collection: revision of a previously approved collection.

3. Title of the form/collection: Application/Permit to Import Firearms, Ammunition, and Defense Articles.

4. Agency form number, if any, and the applicable component of the Department sponsoring the collection:

Form number: ATF Form 5330.3A (“Form 6, part I”).

Component: Bureau of Alcohol, Tobacco, Firearms, and Explosives; U.S. Department of Justice.

5. Affected public who will be asked or required to respond, as well as the obligation to respond:

Affected public: individuals or households, state, local and tribal governments, private sector-for-profit institutions, and federal government.

Obligation to respond: required to obtain or retain a benefit.

6. Estimate of the total number of respondents and the amount of time estimated for an average respondent to respond: An estimated 13,777 respondents will respond to this information collection once annually, and it will take each respondent an average of 17 minutes (0.281 hours) to complete their responses (approximately 30 minutes for persons submitting a paper form, or 15 minutes for persons submitting electronically).

7. Estimate of the total annual burden (in hours) associated with the collection: The estimated annual public burden associated with this collection is 3,869 total hours, which is equal to 13,777 (total respondents) * 1 (# of responses per respondent) * 0.281 (17 minutes).

8. Estimate of the total annual other cost burden associated with the collection, if applicable: $1,241.

Estimated Total Hourly Burden
Activity | Number of respondents | Frequency | Total annual responses | Time per response (hours) | Total annual burden (hours)
Paper form | 1,700 | 1 | 1,700 | .5 | 850
Electronic form | 12,077 | 1 | 12,077 | .25 | 3,019
Totals | 13,777 | 1 | 13,777 | *.281 | 3,869
* (Combined average; roughly 17 minutes.)

Revisions to This Information Collection

ATF is revising this information collection, OMB 1140-0005, to reflect an increase in the number of persons who submit requests to import, from 10,000 three years ago to 13,777 in 2025, an increase of 3,777 requests annually. In addition, the collection has been revised to reflect a change in the amount of time it takes to complete and submit the information, due to technological developments. More than 90 percent of respondents now respond via ATF's online eForms system, cutting out the time involved in completing and mailing paper forms. As a result of these combined changes, the information collection has been revised to reflect a decrease in the total annual hourly burden, from 5,000 hours three years ago to 3,869 in 2025, a decrease of 1,131 hours. In addition, ATF is including monetized value of this time due to recent OMB changes and has also made small revisions to the title to make it easier to read.

If you require additional information, contact: Darwin Arceo, Department Clearance Officer; United States Department of Justice; Justice Management Division, Policy and Planning Staff; Two Constitution Square, 145 N Street NE, 4W-218; Washington, DC.

Dated: November 26, 2025.
Darwin Arceo,
Department Clearance Officer for PRA, U.S. Department of Justice.

[FR Doc. 2025-21688 Filed 11-28-25; 8:45 am]

BILLING CODE 4410-FY-P